NATIONAL SCIENCE FOUNDATION

National Science Board

Sunshine Act Meetings; Notice

The National Science Board's Subcommittee on Facilities, Committee on Strategy and Budget, pursuant to NSF regulations (45 CFR part 614), the National Science Foundation Act, as amended (42 U.S.C. 1862n-5), and the Government in the Sunshine Act (5 U.S.C. 552b), hereby gives notice in regard to the scheduling of a meeting for the transaction of National Science Board business and other matters specified, as follows:

Date and Time: Tuesday, June 29, 2010 at 8 a.m. to 3 p.m.

Subject Matter: Discussion includes:

Categorization of the research infrastructure and associated issues, review of NSF facilities porfolio, identification of areas that will benefit from policy guidance and next steps (Open sessions: 8 a.m.-11:30 a.m. and 1:30 p.m.-3 p.m.)

Future year budgets for current & future facilities (Closed session: 11:30 a.m.-12:30 p.m).

Status: Open and Closed (see above).

Location: This meeting will be held at National Science Foundation, 4201 Wilson Blvd. (Conference Room # 375), Arlington, VA 22230. All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

UPDATES AND POINT OF CONTACT: Please refer to the National Science Board Web site http://www.nsf.gov/nsb for additional information and schedule updates (time, place, subject matter or status of meeting) may be found at http://www.nsf.gov/nsb/notices/. Point of contact for this meeting is: Elizabeth Strickland, National Science Foundation, 4201 Wilson Blvd., Arlington, VA 22230. Telephone: (703) 292-7000.

Daniel A. Lauretano,
Counsel to the National Science Board.

[FR Doc. 2010-15111 Filed 6-18-10; 11:15 am]

BILLING CODE 7555-01-P